DEPARTMENT OF THE INTERIOR

Bureau of Land Management

Notice of Availability of the Proposed Coeur d'Alene Resource Management Plan and Final Environmental Impact Statement; Idaho

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan/Final Environmental Impact Statement (PRMP/FEIS) for the Coeur d'Alene Field Office, Idaho.

DATES: The BLM Planning Regulations (43 CFR 1610.5-2) state that any person who participated in the planning process, and has an interest which is or may be adversely affected, may protest BLM's approval of a resource management plan. You must file a protest within 30 days of the date that the Environmental Protection Agency publishes their notice of availability in the Federal Register. Instructions for filing of protests are described in the PRMP/FEIS and in the SUPPLEMENTARY INFORMATION section of this notice.

FOR FURTHER INFORMATION CONTACT: Scott Pavey, 3815 Schreiber Way Coeur d'Alene, Idaho 83815; (208) 769-5059; scott_pavey@blm.gov.

SUPPLEMENTARY INFORMATION: The planning area covers approximately 96,770 acres of public lands within the following Idaho Counties: Benewah, Bonner, Boundary, Kootenai, and Shoshone. The Coeur d'Alene PRMP, when completed, will provide management guidance for use and protection of the resources managed by the Coeur d'Alene Field Office. The draft Coeur d'Alene RMP/EIS was published for public comment on January 13, 2006. During the 90-day public comment period, BLM received 68 comment letters, e-mails, and faxes. These submissions included almost 700 individual comments, which BLM responded to in the PRMP/FEIS. Public comments resulted in the addition of clarifying text and minor changes to the Preferred Alternative, but did not significantly change land use decisions in the draft. The planning issues addressed in the PRMP/FEIS include: recreational travel management, management of forest products and protection of other resources, adjustments to Federal land ownership, invasive plants, protection of property from wildfire, and protection and restoration of watersheds and riparian areas.

Copies of the Coeur d'Alene PRMP/FEIS have been sent to affected Federal, State, and local government agencies and to interested parties. Interested persons may review the PRMP/FEIS on the Internet at http://www.blm.gov/rmp/id/cda/. You may also obtain a copy on CD-ROM, or paper copy at the BLM Coeur d'Alene Field Office at the address listed above, or by contacting Scott Pavey at (208) 769-5059.

Instructions for filing a protest with the Director of the BLM regarding the PRMP/FEIS may be found at 43 CFR 1610.5-2. A protest may only raise those issues which were submitted for the record during the planning process. E-mail and faxed protests will not be accepted as valid protests unless the protesting party also provides the original letter by either regular or overnight mail and it is postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov. Please direct the follow-up letter to the appropriate address provided below. The protest must contain:

a. The name, mailing address, telephone number, and interest of the person filing the protest.

b. A statement of the part or parts of the PRMP and the issue or issues being protested.

c. A copy of all documents addressing the issue(s) that the protesting party submitted during the planning process or a statement of the date they were discussed for the record.

d. A concise statement explaining why the protestor believes the State Director's decision is wrong.

All protests must be in writing and mailed to one of the following addresses: Regular Mail: Director (210), Attention: Brenda Williams, P.O. Box 66538, Washington, DC 20035.

Overnight Mail: Director (210), Attention: Brenda Williams, 1620 L Street, NW., Suite 1075, Washington, DC 20036.

Individual respondents may request confidentiality. If you wish to withhold your name or street address from public review or from disclosure under the Freedom of Information Act, you must state this prominently at the beginning of your protest. Such requests will be honored to the extent allowed by law. All submissions from organizations and businesses, and from individuals identifying themselves as representatives or officials of organizations or businesses, will be available for public inspection in their entirety. The Director will promptly render a decision on the protest. The decision will be in writing and will be sent to the protesting party by certified mail, return receipt requested. The decision of the Director is the final decision of the Department of the Interior.

Dated: July 21, 2006.
John V. Martin,
Acting Branch Chief, Resources and Science.

[FR Doc. 06-8862 Filed 10-26-06; 8:45 am]

BILLING CODE 4310-GG-M